DEPARTMENT OF DEFENSE

Office of the Secretary

National Intelligence University Board of Visitors; Notice of Federal Advisory Committee Meeting

AGENCY: Under Secretary of Defense for Intelligence and Security, Department of Defense (DoD).

ACTION: Notice of Federal Advisory Committee meeting.

SUMMARY: The DoD is publishing this notice to announce that the following Federal Advisory Committee meeting of the National Intelligence University Board of Visitors will take place.

DATES: Closed to the public Wednesday, October 21, 2020 from 9:00 a.m. to 4:00 p.m.

ADDRESSES: Defense Intelligence Agency 7400 Pentagon ATTN: NIU Washington, DC 20301-7400.

FOR FURTHER INFORMATION CONTACT: Dr. Terrence Markin, Designated Federal Officer, (301) 243-2118 (Voice), Terrence.Markin@dodiis.mil (Email). Mailing address is National Intelligence University, 7400 Pentagon, Washington, DC 20301-7400. Website: http://ni-u.edu/wp/about-niu/leadership-2/board-of-visitors/. The most up-to-date changes to the meeting agenda can be found on the website.

SUPPLEMENTARY INFORMATION: Due to circumstances beyond the control of the Department of Defense and the Designated Federal Officer, the National Intelligence University Board of Visitors was unable to provide public notification required by 41 CFR 102-3.150(a) concerning the meeting of October 21, 2020. Accordingly, the Advisory Committee Management Officer for the Department of Defense, pursuant to 41 CFR 102-3.150(b), waives the 15-calendar day notification requirement.

This meeting is being held under the provisions of the Federal Advisory Committee Act (FACA) (5 U.S.C., App.), the Government in the Sunshine Act of 1976 (5 U.S.C. 552b), and 41 CFR 102-3.140 and 102-3.150.

Purpose of the Meeting: The Board will discuss critical issues and advise Director, DIA, on controlled unclassified or classified information as defined in 5 U.S.C. 552b(c)(1) and therefore will be closed to the public.

Agenda: Welcome & Call to Order, President's Report, NIU Transition to ODNI. Resources—Personnel, Budget, Facilities, Break, NIU Transition to ODNI. Resources—IT, Library, Break for Lunch, NIU Transition to ODNI. Governance—Impact of Change in Control, and NIU Board of Visitors Executive Session.

Meeting Accessibility: The public or interested organizations may submit written statements to the National Intelligence University Board of Visitors about its mission and functions. Written statements may be submitted at any time or in response to the stated agenda of a planned meeting of the National Intelligence University Board of Visitors.

Written Statements: All written statements shall be submitted to the Designated Federal Officer for the National Intelligence University Board of Visitors, and this individual will ensure that the written statements are provided to the membership for their consideration.

Dated: October 9, 2020.
Aaron T. Siegel,
Alternate OSD Federal Register Liaison Officer, Department of Defense.

[FR Doc. 2020-22806 Filed 10-14-20; 8:45 am]

BILLING CODE 5001-06-P